DEPARTMENT OF COMMERCE

Foreign-Trade Zones Board

[Docket 9-2010]

Foreign-Trade Zone 33—Pittsburgh, Pennsylvania, Expansion of Manufacturing Authority, Subzone 33E—DNP IMS America Corporation (Thermal Transfer Ribbon Printer Rolls), Mount Pleasant, Pennsylvania

An application has been submitted to the Foreign-Trade Zones Board (the Board) by the Regional Industrial Development Corporation of Southwestern Pennsylvania, grantee of FTZ 33, requesting an expansion of the scope of manufacturing authority approved within Subzone 33E, on behalf of DNP IMS America Corporation (DNP) in Mount Pleasant, Pennsylvania. The application was submitted pursuant to the provisions of the Foreign-Trade Zones Act, as amended (19 U.S.C. 81a-81u), and the regulations of the Board (15 CFR part 400). It was formally filed on February 4, 2010.

Subzone 33E (123 employees, 360 million square meters coating capacity) currently has authority for the manufacture of thermal transfer ribbon (TTR) (A(27f)-68-2009, 11/12/2009). The subzone (135,985 sq. ft., 3.12 acres) is located at 1001 Technology Drive, Mount Pleasant, Pennsylvania.

The current request involves the production of monochrome TTR printer rolls (some 336 million square meters capacity), using foreign-sourced master rolls of TTR, representing 71-87% of the value of the finished product. The scope otherwise would remain unchanged.

FTZ procedures could exempt DNP from customs duty payments on the foreign TTR master rolls used in export production. The company anticipates that some 10 percent of the plant's shipments will be exported. On its domestic sales, DNP would be able to choose the duty rate during customs entry procedures that apply to the finished TTR printer rolls (duty-free) for the foreign TTR master rolls (3.7%). FTZ procedures would further allow DNP to realize logistical benefits through the use of certain customs procedures and duty savings on scrap and waste for the new activity. The request indicates that the savings from FTZ procedures help improve the plant's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is April 12, 2010. Rebuttal comments in response to material submitted during the foregoing period may be submitted during the subsequent 15-day period to [].

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Diane Finver at Diane.Finver@trade.gov or (202) 482-1367.

Dated: February 4, 2010.
Andrew McGilvray,
Executive Secretary.

[FR Doc. 2010-2988 Filed 2-9-10; 8:45 am]

BILLING CODE 3510-DS-S